DEPARTMENT OF ENERGY

Federal Energy Regulatory Commission

[Docket No. ER99-3916-003]

Xcel Energy Operating Companies; Notice of Filing

January 26, 2001.

Take notice that on January 17, 2001, the Xcel Energy Operating Companies (Xcel Energy) submitted for filing the following corrected pages to their Joint Open Access Transmission Tariff (Joint OATT), Original Volume No. 1:

Substitute Original Sheet No. 2

Substitute Original Sheet No. 3

Substitute Original Sheet No. 4

Substitute Original Sheet No. 5

Substitute Original Sheet No. 6

Substitute Original Sheet No. 7

Substitute Original Sheet No. 8

Substitute Original Sheet No. 9

Original Sheet No. 9A

Substitute Original Sheet No. 135

Xcel Energy requests that the Commission accept the changes effective August 18, 2000, the date of the Joint OATT was accepted for filing by letter order in Docket No. ER99-3916-000 et al.

Any person desiring to be heard or to protest such filing should file a motion to intervene or protest with the Federal Energy Regulatory Commission, 888 First Street, N.E., Washington, D.C. 20426, in accordance with Rules 211 and 214 of the Commission's Rules of Practice and Procedure (18 CFR 385.211 and 385.214). All such motions and protests should be filed on or before February 7, 2001. Protests will be considered by the Commission to determine the appropriate action to be taken, but will not serve to make protestants parties to the proceedings. Any person wishing to become a party must file a motion to intervene. Copies of this filing are on file with the Commission and are available for public inspection. This filing may also be viewed on the Internet at http://www.ferc.fed.us/online/rims.htm (call 202-208-2222 for assistance). Comments and protests may be filed electronically via the internet in lieu of paper. See, 18 CFR 385.2001(a)(1)(iii) and the instructions on the Commission's web site at http://www.ferc.fed.us/efi/doorbell.htm.

David P. Boergers,
Secretary.

[FR Doc. 01-2720 Filed 1-31-01; 8:45 am]

BILLING CODE 6717-01-M